DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: National Voluntary Laboratory Accreditation Program (NVLAP) Information Collection System.

Form Number(s): None.

OMB Approval Number: 0693-0003.

Type of Review: Regular submission.

Burden Hours: 2,338.

Number of Respondents: 850.

Average Hours Per Response: 2.75 hours.

Needs and Uses: This information is collected from all laboratories, testing and calibration, that apply for NVLAP accreditation. It is used by NVLAP to assess laboratory conformance with applicable criteria as defined in 15 CFR part 285, section 285.14. An accredited laboratory's contact information and scope of accreditation are published annually in the NVLAP Directory of Accredited Laboratories, and quarterly on NVLAP's Web site. The information provides a service to customers in business and industry, including regulatory agencies and purchasing authorities that are seeking competent laboratories to perform testing and calibration services.

Affected Public: Business or other for-profit organizations, not-for-profit institutions, and Federal, State or Local government.

Frequency: Annually.

Respondent's Obligation: Required to obtain or retain benefits.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jacqueline Zeiher, OMB Desk Officer.

Dated: November 21, 2003.
Gwellnar Banks,
Management Analyst, Office of the Chief Information Officer.

[FR Doc. 03-29625 Filed 11-26-03; 8:45 am]

BILLING CODE 3510-13-P